ENVIRONMENTAL PROTECTION AGENCY

[FRL 9932-75-OECA]

Applicability Determination Index (ADI) Database System Recent Posting: Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP); and/or the Stratospheric Ozone Protection Program.

FOR FURTHER INFORMATION CONTACT: An electronic copy of each complete document posted on the Applicability Determination Index (ADI) database system is available on the Internet through the Resources and Guidance Documents for Compliance Assistance page of the Clean Air Act Compliance Monitoring Web site under “Air” at: http://www2.epa.gov/compliance/resources-and-guidance-documents-compliance-assistance. The letters and memoranda on the ADI may be located by control number, date, author, subpart, or subject search. For questions about the ADI or this notice, contact Maria Malave at EPA by phone at: (202) 564-7027, or by email at: malave.maria@epa.gov. For technical questions about individual applicability determinations or monitoring decisions, refer to the contact person identified in the individual documents, or in the absence of a contact person, refer to the author of the document.

SUPPLEMENTARY INFORMATION:

Background

The General Provisions of the NSPS in 40 Code of Federal Regulations (CFR) part 60 and the General Provisions of the NESHAP in 40 CFR part 61 provide that a source owner or operator may request a determination of whether certain intended actions constitute the commencement of construction, reconstruction, or modification. EPA's written responses to these inquiries are commonly referred to as applicability determinations. See 40 CFR 60.5 and 61.06. Although the NESHAP part 63 regulations [which include Maximum Achievable Control Technology (MACT) standards and/or Generally Available Control Technology (GACT) standards] and Section 111(d) of the Clean Air Act (CAA) contain no specific regulatory provision providing that sources may request applicability determinations, EPA also responds to written inquiries regarding applicability for the part 63 and section 111(d) programs. The NSPS and NESHAP also allow sources to seek permission to use monitoring or recordkeeping that is different from the promulgated requirements. See 40 CFR 60.13(i), 61.14(g), 63.8(b)(1), 63.8(f), and 63.10(f). EPA's written responses to these inquiries are commonly referred to as alternative monitoring decisions. Furthermore, EPA responds to written inquiries about the broad range of NSPS and NESHAP regulatory requirements as they pertain to a whole source category. These inquiries may pertain, for example, to the type of sources to which the regulation applies, or to the testing, monitoring, recordkeeping, or reporting requirements contained in the regulation. EPA's written responses to these inquiries are commonly referred to as regulatory interpretations. EPA currently compiles EPA-issued NSPS and NESHAP applicability determinations, alternative monitoring decisions, and regulatory interpretations, and posts them to the ADI on a quarterly basis. In addition, the ADI contains EPA-issued responses to requests pursuant to the stratospheric ozone regulations, contained in 40 CFR part 82. The ADI is an electronic index on the Internet with over one thousand EPA letters and memoranda pertaining to the applicability, monitoring, recordkeeping, and reporting requirements of the NSPS, NESHAP, and stratospheric ozone regulations. Users can search for letters and memoranda by date, office of issuance, subpart, citation, control number, or by string word searches.

Today's notice comprises a summary of 42 such documents added to the ADI on August 10, 2015. This notice lists the subject and header of each letter and memorandum, as well as a brief abstract of the letter or memorandum. Complete copies of these documents may be obtained from the ADI on the Internet through the Resources and Guidance Documents for Compliance Assistance page of the Clean Air Act Compliance Monitoring Web site under “Air” at: http://www2.epa.gov/compliance/resources-and-guidance-documents-compliance-assistance.

Summary of Headers and Abstracts

The following table identifies the database control number for each document posted on the ADI database system on August 10, 2015; the applicable category; the section(s) and/or subpart(s) of 40 CFR part 60, 61, or 63 (as applicable) addressed in the document; and the title of the document, which provides a brief description of the subject matter.

We have also included an abstract of each document identified with its control number after the table. These abstracts are provided solely to alert the public to possible items of interest and are not intended as substitutes for the full text of the documents. This notice does not change the status of any document with respect to whether it is “of nationwide scope or effect” for purposes of CAA Sec. 307(b)(1). For example, this notice does not convert an applicability determination for a particular source into a nationwide rule. Neither does it purport to make a previously non-binding document binding.

ADI Determinations Uploaded on August 10, 2015
Control No. | Categories | Subparts | Title
1400039 | NSPS | JJJJ | Performance Test Waiver for Reciprocating Internal Combustion Engines.
1500001 | NSPS | JJJJ | Test Waiver for Stationary Spark Internal Combustion Engines.
1500004 | NSPS | WWW | Request for Alternative Compliance Timeline for Landfill Gas Extraction Well.
1500005 | NSPS | WWW | Request for Alternative Compliance Timeline for Landfill Gas Extraction.
1500006 | NSPS | Ja | Alternative Monitoring Plan Request for Flare at Refinery and Sulfur Plant.
1500008 | NSPS | CCCC, EEEE | Conditional Exemption for CISWI and OSWI.
1500009 | NSPS | CCCC | Petition to Establish Proposed Operating Limits for an Incinerator.
1500010 | NSPS | A, Y | Request for PM Performance Testing Extension under Force Majeure.
1500011 | NSPS | EEEE | Rural Institutional Waste Incinerator Exemption.
1500012 | NSPS | EEEE | Rural Incinerator Exemption Administrative Correction.
1500013 | NSPS | EEEE | Rural Institutional Waste Incinerator Exemption Denial.
1500015 | NSPS | EEEE | Rural Institutional Waste Incinerator Exemption.
1500016 | NSPS | EEEE | Rural Institutional Waste Incinerator Exemption.
1500017 | NSPS | JJJJ | Test Notice Waiver.
1500018 | NSPS | JJJJ | Test Notice Waiver.
1500019 | NSPS | EEEE | Rural Institutional Waste Incinerator Exemption.
1500020 | NSPS | Db | Request for Alternative to COM Monitoring for Wet Scrubber and ESP.
1500040 | NSPS | LL | Applicability Determination for Operations Depositing Ponded Fine Tailings Material as a By-Product from Historical Ore Mining and Processing Operations.
1500041 | NSPS | A, LLLL | Alternative Monitoring Location for Wet Electrostatic Precipitator Effluent.
1500042 | NSPS | A, Da, Z | Alternative Compliance Monitoring Plan for Opacity and Carbon Monoxide Monitoring from an electric submerged arc furnace.
1500043 | NSPS | Db | Alternative Testing, Monitoring, Recordkeeping and Reporting at Vessel Boilers.
1500044 | NSPS | Dc | Request for Alternative Recordkeeping and Reporting for Boilers.
1500045 | NSPS | Dc | Request for Alternative Recordkeeping and Reporting for Boilers.
1500047 | NSPS | TT | Applicability Determination for a Tubing Operation for Coating Metal Wire.
1500048 | NSPS | OOOO | Applicability Determination for Pipeline Stations Storage Vessels.
M140017 | MACT, Part 63 NESHAP | DDDDD | Request for Compliance Extension for Boiler MACT.
M140018 | MACT, Part 63 NESHAP | JJJJJJ | Test Waiver Denial for Coal-Fired Boilers.
M150001 | MACT, Part 63 NESHAP | ZZZZ | Alternative Monitoring Request for Non-Resettable Hour Meter for Stationary Emergency Engines.
M150002 | MACT, Part 63 NESHAP | A, JJJJJJ | Compliance Extension for Area Source Coal Fired Boilers.
M150003 | MACT, Part 63 NESHAP | A, ZZZZ | Compliance Extension for Area Source Reciprocating Internal Combustion Engines.
M150004 | MACT, Part 63 NESHAP | A, ZZZZ | Compliance Extension for Reciprocating Internal Combustion Engine.
M150005 | MACT, Part 63 NESHAP | A, ZZZZ | Compliance Extension for Power Plant Reciprocating Internal Combustion Engines.
M150006 | MACT, Part 63 NESHAP | A, ZZZZ | Prior Test Data Use for Initial Compliance Demonstration.
M150007 | MACT, Part 63 NESHAP | ZZZZ | Applicability Determination for Reciprocating Internal Combustion Engines.
M150008 | MACT, Part 63 NESHAP | ZZZZ | Peak Shaving Engine Redesignation to Black Start Engine.
M150009 | MACT, Part 63 NESHAP | A, JJJJJJ | Area Source Boiler PM Test Waiver Request.
M150018 | MACT, Part 63 NESHAP | DDDDD, JJJJ, MMMMM, ZZZZ | Part 63 Rules and Title V Operating Permit Applicability for Lamination Facility.
M150019 | MACT, Part 63 NESHAP | O | Request for Clarification of Annual Performance Test Requirement.
M150020 | MACT, Part 63 NESHAP | UUUUU | Applicability Determination for Limited-Use Liquid Oil-Fired Electric Generating Units.
M150021 | MACT, Part 63 NESHAP | LLL | Applicability Determination for Cement Finish Mill.
Z150001 | Part 63 NESHAP | JJJJJJ | Performance Test Extension and Amendment to Force Majeure.
1500042 | NSPS, Part 63 NESHAP | Y, DDDD, LLL | Applicability Determination under section 111, section 112, and section 129 for Cement Plants.

Abstracts

Abstract for [1400039]

Q: Will EPA provide Matanuska Electric Association (MEA) a waiver pursuant to 40 CFR 60.8(b)(4), from the initial performance testing requirement under NSPS Subpart JJJJ for nine of the ten Wartsila 18V50DF dual-fired, lean-burn, 17.1 megawatt (23,250 HP), non-emergency, reciprocating internal combustion engines (RICE) to be installed at the Eklutna Generation Station in Eklutna, Alaska?

A: No. EPA finds that MEA has not provided an adequate demonstration that the engines in question will meet the applicable standards, and therefore the EPA is denying MEA's request for a waiver from the initial performance testing for its Wartsila 18V50DF engines. Although the manufacturer's data provided indicates that we can expect that the Wartsila 18V50DF engines may be able to meet the applicable emissions limits in NSPS Subpart JJJJ (if properly installed and operated) conducting a performance test is necessary to provide adequate assurance that an engine is properly installed and operating. MEA may re-submit a request for a waiver of performance tests at its facility once it has information that is sufficient to demonstrate that one or more of the engines, after reaching their maximum production rate, are in compliance with the standard.

Abstract for [1500001]

Q: Will EPA approve a waiver from performance testing requirements according to 40 CFR 60.8(b)(4) for six of seven Waukesha units identified as identical and operated as compressor engines at ConocoPhillips Alaska Incorporated's (CPAI) Beluga River Unit (BRU)?

A: Based on the information provided by CPAI, EPA approves the performance test waiver for the CO and VOC standards, but not for the NOX standards for the next performance testing that is due for six of the seven Waukesha engines. EPA approves the CO and VOC performance testing waiver because CPAI has demonstrated that the engines are identical, they are in the same location, they will be operated and maintained in a similar manner on an ongoing basis, and the expected emissions from the engines are in compliance with applicable limits by a substantial margin. EPA denies the NOX performance test waiver because the margin of compliance for NOX emissions was not sufficient to conclude that untested units would be in compliance with the NOX standards of subpart JJJJ, given the high variability in NOX emissions.

Abstract for [1500004]

Q: Does EPA approve Roxana Landfill's request for an alternative timeline of additional sixty (60) days, or until January 25, 2015, to bring Well 191 located in Edwardsville, Illinois, into compliance with 40 CFR 60.752(b)(2)(ii)(A)(3) under NSPS subpart WWW?

A: Yes. Based on the information provided by Roxana, EPA approves, pursuant to 40 CFR 60.755(a)(3), the proposed alternative timeline to complete installation of a new vacuum lateral on Well 191 by January 25, 2015 to bring the well into compliance with pressure requirements. Roxana site personnel must review investigative and monitoring data and closely monitor any field conditions that would result in a violation of 40 CFR part 60, subpart WWW.

Abstract for [1500005]

Q: Does EPA approve the alternative compliance timeline to complete a dewatering project for landfill gas extraction Well S163R2 at the Waste Management of Illinois, Incorporated. (WMIL) Settler's Hill Recycling and Disposal Facility/Midway facility in Batavia, Illinois under 40 CFR subpart WWW?

A: Yes. Based on the information provided by WMIL, EPA approves WMIL's proposed alternative compliance timeline to complete a dewatering project on Well S163R2 by June 24, 2014. We understand that WMIL has made efforts to meet the regulatory deadline but was unable to meet it due to the nature of the work involved. Factors including a well depth of 144 feet deep and its location at the center of the landfill. Lack of infrastructure near the well to facilitate dewatering, no electricity near the well, and no means to convey liquid into the facility's condensate/leachate system contributed to the project's delay.

Abstract for [1500006]

Q. Does EPA approve the Alternative Monitoring Plan (AMP) request to the sulfur monitoring requirements under 40 CFR 60.107a(e) of NSPS, subpart Ja, for the flare at the Phillips 66 Billings Refinery and Jupiter Sulfur Plant (Jupiter Sulfur) located in Billings, Montana?

A. Yes. Based on the information provided, EPA conditionally approves Jupiter Sulfur's AMP request for meeting the flare sulfur monitoring requirements. EPA finds the AMP acceptable since flaring does not occur more than four times in any 365-day period and it contains provisions for the monitoring of the rupture discs that are similar to, or the same as, provisions found in § 60.107a(g)(1)-(6) for monitoring the water seal at emergency flares. In addition, Jupiter Sulfur will install a flow meter meeting the requirements of § 60.107a(i) on the flare. The conditions for AMP approval addressing monitoring, corrective actions and recordkeeping requirements are specified in the EPA determination letter.

Abstract for [1500008]

Q: Does an incinerator that burns pathological waste at the Kenai Veterinary Hospital in Kenai, Alaska meet the exclusion for pathological waste incineration units in NSPS for Other Solid Waste Incineration Units (OSWI), 40 CFR subpart EEEE, and for Commercial Industrial Solid Waste Incineration Units (CISWI), subpart CCCC?

A: Yes. The unit is exempt because it burns 90 percent or more by weight pathological, low-level radioactive, and/or chemotherapeutic waste as defined in 40 CFR 60.2977. EPA will consider the letter submitted by the hospital to constitute the notice that the unit meets the exclusion. Consistent with the regulations, records of materials burned must be kept to demonstrate that the exclusion continues to apply.

Abstract for [1500009]

Q: Does the EPA approve the operating limits proposed by Sumitomo Metal Mining Pogo (Pogo) for its small remote solid waste incinerator under NSPS for Commercial Industrial Solid Waste Incineration (CISWI) units, subpart CCCC at its mine facility near Delta Junction, Alaska?

A: Yes. EPA accepts Pogo's petition to establish operating limits for the incinerator under subpart CCCC. The petition was submitted 60 days before the initial performance test is scheduled to begin and it meets the criteria in paragraphs (a) through (e) of § 60.2115. The incinerator has no add-on control device and only fires propane as fuel with anticipated feedstocks of solid wastes but not hazardous wastes, which is consistent with 40 CFR 60.2115. Pogo identified the specific parameters to be used, including waste composition and charge rate, charge interval limit, and primary and secondary combustion chamber temperature and burn-time limits. The relationship between these parameters and emissions was provided by Pogo, and upper and/or lower values were proposed. Methods and instrumentation to measure and continuously monitor the operating parameters were presented, which include the installation of an electronic data acquisition system and the calculation of 5-minute rolling average temperatures. Compliance with the minimum temperature limits will be determined using the rolling 5-minute average. A rolling weight will be calculated with an averaging period to be determined based on the results of the initial performance test. The frequency and methods for recalibrating instruments were identified.

Abstract for [1500010]

Q: Does EPA approve an extension to the applicable performance test deadlines caused by a force majeure event in accordance with the provisions of 40 CFR 60.8(a)(1), (a)(2), (a)(3), and (a)(4) for an affected facility located in Alaska, owned and operated by Clear Air Force Station (Clear AFS), that is subject to 40 CPR 60 subpart Y?

A: No. EPA denies the extension request as it believes that Clear AFS could have taken steps to prevent the circumstances that led to the inability to perform the stack test in a safe manner. As stated in the supporting information you provided to EPA, which was included in a formal request submitted to the Alaska Department of Environmental Conservation (ADEC), a similar nearby facility (Eielson Air Force Base) had tested in 2011 the same coal at their facility under similar operational conditions and determined that the coal was explosive. The EPA believes that Clear AFS has an obligation (a general duty) to ensure a safe working environment under all conditions at all times and has knowledge and is aware of the nature of all materials under its possession. EPA also believes that Clear AFS neglected to take into safety consideration when making equipment purchase decisions.

Abstract for [1500011]

Q: Will EPA exclude the cyclonic burn barrel unit that Lower Kuskokwim School District (LKSD) intends to operate at the Chefornak School in Chefornak, Alaska from the requirements of 40 CFR part 60 subpart EEEE?

A: Yes. EPA approves LKSD's request. EPA determines that KSD's request was submitted prior to initial startup of the unit, and that the incineration unit meets the criteria for exclusion from subpart EEEE (40 CFR 60.2887(h)(1)-(2)) for rural institutional waste incinerator units. The unit is located more than 50 miles from the boundary of the nearest Metropolitan Statistical Area, and alternative disposal options are not available or are economically infeasible.

Abstract for [1500012]

Q1: Will EPA correct the operator and park name operated by and located in the Lake Clark National Park and Preserve for a previously denied exclusion from 40 CFR part 60 subpart EEEE for an incineration unit operating in Port Alsworth, Alaska?

A1: Yes. EPA determination letter issued to the National Park Service on April 16, 2013 (Refer to ADI Control Number 1500013) applies to the incinerator operated by and located in the Lake Clark National Park and Preserve, and not to an incinerator being operated by Glacier Bay National Park and Preserve as erroneously stated in the response.

Abstract for [1500013]

Q: Does EPA determine that the institutional waste incineration unit at the National Park in Port Alsworth, Alaska can be excluded from the Part 60 subpart EEEE requirements at 40 CFR 60.2887(h)?

A: No. EPA determines that the unit is not eligible for this exclusion because the application for an exclusion was not submitted prior to the start-up of the incinerator as required by 40 CFR 60.2887(h)(1). It appears, based on the information provided by the Park, that the unit in question would meet the criteria of being located more than 50 miles from the boundary of the nearest Metropolitan Statistical Area and that alternative disposal options are not available or are economically infeasible. However, subpart EEEE requires that the owner or operator of the incinerator unit must submit, before start-up, an application demonstrating that the unit meets the exclusion criteria. Refer to ADI Control Number 1500012 for a correction to the operator name for the unit.

Abstract for [1500015]

Q: Will EPA approve exempted status for a cyclonic burn barrel unit under 40 CFR part 60 subpart EEEE that the Lower Kuskokwim School District (LKSD) intends to operate at the Atmautluak, Alaska school facility to incinerate dewatered sludge from the Atmautluak school wastewater system?

A: Yes. EPA determines that the incinerator that LKSD intends to operate meets the criteria for exclusion for rural institutional waste incinerators and therefore is approving LKSD's application for exclusion according to 40 CFR 60.2887(h). LKSD submitted this request prior to initial start up of the incinerator as required by 40 CFR 60.2887(h)(1). The LSKD School in Atmautluak is located approximately 284 miles from the boundary of the Anchorage/Matanuska Susitna Metropolitan Statistical Area. Atmautluak is an isolated community with no road access and severely limited barge access. There is no legal and safe disposal site within Atmautluak. Sludge would have to be shipped to Washington or Oregon for disposal and this would be prohibitively expensive.

Abstract for [1500016]

Q: Will EPA approve exempted status for a cyclonic burn barrel unit under 40 CFR part 60 subpart EEEE that the Lower Kuskokwim School District (LKSD) intends to operate at the Newtok, Alaska school facility to incinerate dewatered sludge from the Newtok school wastewater system?

A: Yes. EPA determines that the incinerator that LKSD intends to operate meets the criteria for exclusion for rural institutional waste incinerators and therefore is approving LKSD's application for exclusion according to 40 CFR 60.2887(h). LKSD submitted this request prior to initial start up of the incinerator as required by 40 CFR 60.2887(h)(1). The LSKD School in Newtok is located approximately 360 miles from the boundary of the Anchorage/Matanuska Susitna Metropolitan Statistical Area. Newtok is an isolated community with no road access and severely limited barge access. There is no legal and safe disposal site within Newtok. The community has started a long-term project to move the village to a new location therefore there are no plans to open a permitted landfill at this current location. Sludge would have to be shipped to Washington or Oregon for disposal and this would be prohibitively expensive.

Abstract for [1500017]

Q: Will EPA grant a request for a waiver of the 30-day notification required prior to conducting a performance evaluation of a generator under NSPS subpart JJJJ at the Joint Base Elmendorf/Richardson (JBER) Landfill Gas Power Facility in Fairbanks, Alaska pursuant to 40 CFR 60.19(f)(3)?

A: Yes. Based on information provided by JBER, EPA waives the 30 day notice for performance testing pursuant to 40 CFR 60.l9(f)(3). JBER indicates that the notice is late because it just became aware that the State of Alaska has declined to be delegated authority to implement and enforce NSPS subpart JJJJ.

Abstract for [1500018]

Q: Will EPA grant a request for a waiver of the 30-day notification of performance evaluation requirement for a Guascor Model SFGM-560 Reciprocating Internal Combustion Engine (RICE) at Farm Power's new biogas production facility in Tillamook, Oregon pursuant to 40 CFR 60.19(f)(3)?

A: Yes. Based on information provided by Farm Power, EPA approves this request pursuant to 40 CFR 60.l9(f)(3). Farm Power indicates that the notice is late because it just became aware that the State of Oregon has declined to be delegated authority to implement and enforce NSPS subpart JJJJ.

Abstract for [1500019]

Q: Will EPA approve exempted status for a cyclonic burn barrel unit under 40 CFR subpart EEEE that the Lower Kuskokwim School District (LKSD) intends to operate at the Tuntutuliak, Alaska school facility to incinerate dewatered sludge from the Tuntutuliak school wastewater system?

A: Yes. EPA determines that the incinerator that LKSD intends to operate meets the criteria for exclusion for rural institutional waste incinerators and therefore is approving LKSD's application for exclusion according to 40 CFR 60.2887(h). LKSD submitted this request prior to initial start up of the incinerator as required by 40 CFR 60.2887(h)(1). The LSKD School in Tuntutuliak is located approximately 360 miles from the boundary of the Anchorage/Matanuska Susitna Metropolitan Statistical Area. Tuntutuliak is an isolated community with no road access, and severely limited barge access. Sludge would have to be shipped to Washington or Oregon for disposal and this would be prohibitively expensive.

Abstract for [1500020]

Q: Will EPA approve alternative monitoring under 40 CFR 60.13(h)(i)(1) of NSPS subpart Db for the multi-fuel Power Boiler No. 20 at the Longview Fibre Paper and Packaging, Incorporated facility in Longview, Washington?

A: Yes. EPA conditionally approves alternative monitoring for the multi-fuel boiler to ensure compliance with the state PM limit since moisture from the controls and low stack gas temperature result in interference that makes a continuous opacity monitor (COM) infeasible. Longview's boiler is already subject to a federally enforceable, state imposed, PM emission limit that is more stringent than NSPS subpart Db, and therefore, compliance with the Subpart Db PM limit is met. The conditions for approval are specified in the EPA determination letter.

Abstract for [1500040]

Q: Are the operations conducted by Magnetation, LLC, at their facility located near Keewatin, Minnesota, to produce an iron concentrate considered an affected facility and subject to the requirements of NSPS subpart LL?

A: Yes. EPA determines that the operations conducted by Magnetation, LLC are considered an affected facility and subject to the requirements of NSPS subpart LL because it produces a metallic mineral concentrate and the operations meet the definition of metallic mineral processing plant at 40 CFR 60.381. The definition for “metallic mineral concentrate” does not require that the concentration level be in excess of the historic source ore, and the finished product is higher in concentration than currently available, naturally occurring ore. The tailing material clearly came “from ore,” and the fact that Magnetation's process relies on the previous plant having taken initial steps in concentrating the ore does not exempt your process from acting on material which came from ore. The beneficiation equipment produces a finished product that meets the definition of “metallic mineral concentrate.” Therefore, the equipment produces metallic mineral concentrates from ore.

Abstract for [1500041]

Q: Does EPA approve the Mattabassett District Water Pollution Control (Mattabassett) facility's request for an alternative monitoring location for the water flow rate from the wet electrostatic precipitator (WESP) that is used to control pollution from the sewage sludge incinerator at the facility located in Cromwell, CT?

A: Yes. EPA approves the alternative monitoring location for the water flow from the Mattabassett's WESP unit under 40 CFR part 60 subpart A, section 60.13(i)(4).

Abstract for [1500042]

Q1: Does EPA approve Boston Electrometallurgical Corporation's (BEMC's) proposed alternative monitoring to use a triboelectric detector to continuously monitor the relative particulate matter (PM) concentration of the exhaust emitted to the atmosphere from the submerged arc furnace, located at its Woburn, MA ferroalloy production facility, in lieu of a continuous opacity monitoring system to meet 40 CFR 60.264(b)? BEMC proposes to use EPA Reference Method 9 to establish a relationship between opacity and the electrical signal provided by the triboelectric detector.

A1: Yes. EPA approves the use of baghouse leak monitoring for the furnace meeting the requirements of 40 CFR 60.48(o)(4)(i) through (v), as they relate to the use of its triboelectric sensor for opacity monitoring, including the development and submittal of a monitoring plan for approval.

Q2: Does EPA approve BEMC's proposed alternative to install and operate a continuous CO monitoring system (i.e., an Infrared Industries, IR-208 Gas Analyzer) that will sample the exhaust once every ten minutes in order to meet 40 CFR 60.263(a)?

A2: Yes. EPA approves BEMC's alternative monitoring to use the gas analyzer for measuring CO continuously in conjunction with other process parameters, such as temperature and flow, to ensure proper operating conditions. In addition, BEMC would have the flexibility to monitor CO periodically at other portions of the processes, e.g. furnace outlet.

Abstract for [1500043]

Q1: Does EPA approve Northeast Gateway Energy Bridge LLC's (Northeast Gateway's) proposed use of Method 22 in lieu of Method 9 for opacity observations to comply with 40 CFR 60.43b for each liquid natural gas regasification (LNGR) vessels that have boilers subject to NSPS subpart Db for the Northeast Gateway Port off the coast of Massachusetts?

A1: EPA finds that Northeast Gateway's request to use Method 22 is unnecessary because Northwest Gateway LLC only burns oil during startup and the existing NSPS includes a provision, 40 CFR 60.43b(g), providing that PM and opacity limits in that NSPS do not apply during periods of startup, shutdown, or malfunction.

Q2: Does EPA approve Northeast Gateway's proposed waiver request of the 30 operating day NOX performance test requirement in 40 CFR 60.46b(e)?

A2: EPA is unable to grant a waiver at this time because Northeast Gateway has not yet demonstrated compliance by other means. However, demonstration of compliance with the more stringent Northeast Gateway air permit NOX limit through a performance test, combined with data collected with a certified NOX monitor, may adequately demonstrate compliance with the Subpart Db NOX emission limit without requiring a Subpart Db 30 day performance test.

Q3: Does EPA approve Northeast Gateway's proposed alternative to the 30-day rolling average required by 40 CFR 60.44b(i), where compliance would be demonstrated each calendar month, regardless of the number of operating hours that fall within a given calendar month?

A3: EPA finds that the proposed waiver of the 30-day averaging period is unnecessary because the affected boilers at the Northeast Gateway Port are below 250 MMBtu, and burn only natural gas and distillate oil.

Q4: Does EPA approve Northeast Gateway's proposal to use Method 22 in lieu of Method 9 for opacity observations under 40 CFR 60.48b?

A4: EPA finds that Method 9 observations will not be necessary under 40 CFR 60.48b since, under the permit, oil will be fired only during start-up periods.

Q5: Does EPA approve Northeast Gateway's proposal to modify the data requirements for NOX monitoring found at 40 CFR 60.48b(f)?

A5: Yes. EPA approves Northeast Gateway's proposed criteria that require valid NOX data for 75 percent of the operating hours that occur in each calendar month because the proposed data requirement will be more stringent than those at 40 CFR 60.48b(f).

Q6: Does EPA approve Northeast Gateway's request to waive all requirements under 40 CFR 60.49b(g) that refer to 30-day NOX averages and instead be calculated on a calendar-month average basis?

A6: No. EPA does not grant the request to waive the 30-day NOX average requirement in lieu of a calendar month approach. EPA requires that when compliance must be demonstrated, it shall be demonstrated consistent with the 30-day regulatory requirement. Similarly, requirements for excess emission reports in 40 CFR 60.48b(h) based on 30-day NOX averages apply.

Q7: Does EPA approve Northeast Gateway's request to perform periodic quality assurance (QA) testing required by the Part 60 appendices while vessels are not moored at the Northeast Gateway Port?

A7: EPA will allow QA testing to be conducted while vessels are not moored at the Northeast Gateway Port if the testing is conducted in accordance with a test protocol and schedule approved by EPA.

Q8: Does EPA approve Northeast Gateway's proposal to perform a Relative Accuracy Audit (RAA) using three 60 minute runs in lieu of conducting the nine 21 minute runs of a RATA as required by Appendix F of Part 60?

A8: No. EPA does not approve this request because the nine run relative accuracy test audits (RATA) test are necessary to provide a statistically significant data set with which to certify the CEMS.

Q9: Does EPA approve Northeast Gateway's request that the RATA test frequency be reduced to initial performance testing and at least once every 5 years thereafter as required by Appendix F of Part 60?

A9: No. EPA does not approve this request. The RATAs must be conducted once every four calendar quarters, or upon the next visit for each vessel that has visited the Northeast Gateway Port after the previous successful RATA, if more than four calendar quarters have passed since that vessel's last successful RATA.

Q10: Does EPA approve Northeast Gateway's proposal that cylinder gas audits (CGAs) required by Appendix F of Part 60 be performed once per calendar quarter, or upon the next visit of a vessel to the Northeast Gateway Port after the previous CGA, if more than one calendar quarter has passed since that vessel's last visit to the Northeast Gateway Port?

A10: Yes. EPA approves the proposed CGA schedule.

Q11: Does EPA approve Northeast Gateway's proposal to modify the 7 day calibration drift test requirement in Performance Specification 2 (“PS2”) of Part 60 Appendix B?

A11: No. EPA does not approve this modification. However, as stated in A7 above, EPA is willing to provide some flexibility in allowing the drift test to be conducted when the LNGRV is not moored at the facility.

Q12: Does EPA approve Northeast Gateway's proposal to waive the retrospective invalidation of data for CD checks exceeding four times the specification and instead consider the “out of control” period only to apply to data after a CD check that exceeds four times the drift specification?

A12: No. EPA does not approve this request for waiver. Procedure 1 in Appendix F of 40 CFR part 60 defines the out of control period as beginning with the completion of the fifth consecutive daily calibration drift check that exceeds twice the drift specification (2.5 percent of span), or with the completion of the last daily CD check preceding a CD check that exceeds four times the drift specification.

Abstract for [1500044]

Q1: Does EPA approve Phillips Academy's (Phillips') request to track actual monthly oil usage under 40 CFR 60.48c(g)(1) when natural gas supplies are interrupted to its boilers at Phillips' facility in Andover, Massachusetts? Phillips currently operates three dual-fuel capable boilers with input capacities of 40.79 MMBtu/hr, which are subject to NSPS subpart Dc and other applicable Massachusetts permit requirements. The facility is currently required to maintain daily records of fuel consumption.

A1: Yes. EPA conditionally approves a decrease in fuel usage recordkeeping from daily to monthly records for Phillips' boilers if the facility uses natural gas as the primary fuel and distillate oil with a sulfur content no greater than 0.5 percent as the back-up fuel.

Q2: Does EPA approve Phillips' request to submit annual reports to EPA under 40 CFR 60.48c(j), instead of semiannual reports?

A2: Yes. EPA conditionally approves a decrease in the reporting frequency under subpart Dc based on Phillips' records that the facility has operated exclusively on natural gas for the past eight years, with the exception of limited operation on oil with a with a sulfur content no greater than 0.5 percent for periodic testing and maintenance. If Phillips' 30-day rolling average sulfur content of the fuel exceeds 0.5%, the facility must immediately resume daily fuel use record keeping.

Abstract for [1500045]

Q1: Does EPA approve the University of Massachusetts Lowell's (UMASS Lowell's) request to track actual monthly, instead of daily, oil usage under 40 CFR 60.48c(g)(1) when natural gas supplies are interrupted to its dual-fuel boilers subject to NSPS subpart Dc at its Lowell, Massachusetts facility?

A1: Yes. EPA conditionally approves a decrease in the reporting frequency for the boilers based on the facility's records that UMASS Lowell's has operated using natural gas as the primary fuel and distillate oil with a sulfur content no greater than 0.5 percent as the back-up fuel.

Q2: Does EPA approve UMASS Lowell's request to submit annual reports under 40 CFR 60.48c(j), instead of on a semi-annual basis?

A2: Yes. EPA conditionally approves a decrease in the reporting frequency under 40 CFR part 60 subpart Dc based on UMASS Lowell' records that the facility operates almost exclusively on natural gas, with the exception of when natural gas supplies were interrupted.

Abstract for [1500047]

Q: Is the new tube manufacturing operation at Elektrisola Incorporated's Boscawen, New Hampshire facility subject to 40 CFR part 60 subpart TT?

A: No. Based on the information provided by the New Hampshire Department of Environmental Services (NHDES), EPA determines that Elektrisola's new tubing operation does not meet the definition of metal coil surface coating operation in section 60.461 because it is applying an organic coating to metal wire, rather than a metal strip. Therefore, Elektrisola's operation is not subject to NSPS subpart TT.

Abstract for [1500048]

Q: Are JP Energy's pipeline station storage vessels at several locations in Kansas subject to NSPS subpart OOOO?

A: Yes. EPA determines that the storage vessels are located in the “oil production segment” and are affected facilities subject to NSPS subpart OOOO. The operations described by JP Energy, which transfer the oil from the wellhead tank loaded on a truck, and transported to another storage vessel prior to the pipeline (emphasis added), are transfer operations prior to the pipeline; as such, they are within the “oil production segment” per 40 CFR 60.5365(d) definition. Therefore, the storage vessels in question meet the criteria for storage vessels affected facility at 40 CFR 60.5365(e).

Abstract for [M140017]

Q: Will EPA approve a one-year compliance extension for the Power Boiler (PB-7) under 40 CFR part 63, subpart DDDDD at the RockTenn CP, LLC's pulp and paperboard mill in Tacoma, Washington (Tacoma Mill)?

A: No. EPA determines that although Tacoma Mill identified various potential control technology options, specific controls were not clearly identified, which is a criteria under 40 CFR 63.6(i)(6)(i)(A) for approval of an extension of the compliance deadline.

Abstract for [M140018]

Q: Will EPA grant an initial performance testing waiver for Aurora Energy, LLC's (Aurora) two coal fired boilers, Emission Units (EUs) 5 and 6, which are identical in design and manufacture to EU4, at the Chena Power Plant in Fairbanks, Alaska?

A: No. Based on the information provided, EPA denies Aurora's request for a waiver from the Part 63 subpart JJJJJJ initial performance testing for EUs 5 and 6. EPA determines that insufficient information has been provided to support a conclusion that EUs 4, 5, and 6 are identical, and have been operated and maintained in a similar manner necessary to support a waiver request. The age of the boilers makes it less likely they may be identical, which appears to be the case for EU 6 based on the nameplate photos. Additionally, there has been no historical test data submitted to demonstrate low variability in emissions over time. The fuel, coal, has also not been demonstrated to have low variability over time.

Abstract for [M150001]

Q: Will EPA approve an alternative to the monitoring requirement for installation of a non-resettable hour meter for the approximately 74 existing stationary emergency engines subject to 40 CFR part 63 subpart ZZZZ, the NESHAP for Stationary Reciprocating Internal Combustion Engines, which are operated by BP Exploration Alaska (BPXA) on the North Slope of Alaska?

A: No. EPA determines that the alternative monitoring approach is not acceptable because the automated engine hour tracking system in use by BPXA is not sufficient on its own to meet the rule requirement of 40 CFR 63.6625(f) since it is not “non-resettable.” Since BPXA can adjust the automated system hour log, it would not be “non-resettable” as required by the NESHAP subpart ZZZZ.

Abstract for [M150002]

Q: Will EPA grant a one year extension to the compliance deadline for four coal-fired boilers subject to the Area Source NESHAP for boilers, subpart JJJJJJ, located at the Pacific Air Forces, Eielson Air Force Based Central Heat and Power Plant in Eielson, Alaska?

A: Yes. EPA conditionally approves the one year extension to the compliance deadline for carbon monoxide (CO). EPA determines that additional time is warranted due to the short construction season in Alaska, uncertainty regarding the final rule requirements due to reconsideration amendments, and government procurement procedures. Approval is conditioned upon Eielson complying with the applicable emission and operating limits and compliance demonstration procedures by March 21, 2015; meeting interim compliance deadlines specified in the approval letter; and meeting tune-up requirements that are required of boilers below 10 MMBTU/hr during the time period while the compliance extension applies.

Abstract for [M150003]

Q: Will EPA grant a one year compliance extension to Hilcorp Alaska for five stationary reciprocating internal combustion engines (RICE) subject to NESHAP subpart ZZZZ, which are located on the Anna, Dillon, and Monopod Platforms in Alaska's Cook Inlet region?

A: Yes. EPA conditionally approves the one-year extension to the compliance deadline for all three platforms that are area sources. EPA determines that additional time is warranted because of the short construction season in Alaska, uncertainty regarding the final rule requirements due to reconsideration of the regulation, and difficulties in procuring the control equipment due to increased demand throughout the industry as the compliance deadline approaches. Approval is conditioned on Hilcorp complying with the applicable equipment standards, catalyst installation and compliance demonstration procedures by October 19, 2014; meeting specified interim compliance deadlines; and complying with the work or management practices for remote stationary RICE by October 19, 2013.

Abstract for [M150004]

Q: Will EPA grant a one year extension to the compliance deadline to Hilcorp Alaska for a stationary reciprocating internal combustion engine (RICE) subject to the NESHAP for RICE, 40 CFR part 63 subpart ZZZZ, which is located on the Falls Creek Pad in Alaska's South Kenai region?

A: Yes. EPA conditionally approves the one-year extension to the compliance deadline for the unit that is not a remote stationary RICE located at an area source facility. EPA determines that additional time is warranted because of the short construction season in Alaska, uncertainty regarding the final rule requirements due to reconsideration of the regulation, and difficulties in procuring the control equipment due to increased demand throughout the industry as the compliance deadline approaches. Approval is conditioned upon Hilcorp complying with the applicable equipment standards, catalyst installation and compliance demonstration procedures by October 19, 2014; meeting interim compliance deadlines specified in the approval letter; and complying with the work or management practices for remote stationary RICE by October 19, 2013.

Abstract for [M150005]

Q: Will EPA grant a one-year compliance extension for two stationary reciprocating internal combustion engines (RICE) subject to NESHAP subpart ZZZZ, which are located at the North Slope Borough (NSB) Nuiqsut Power Plant in Barrow, Alaska?

A: Yes. EPA conditionally approves the one-year extension to the compliance deadline for the two existing gas-fired spark ignition units that are not remote stationary RICE and that operate more than 24 hours per calendar year at an area source facility. EPA determines that additional time is warranted because of the short construction season in Alaska, uncertainty regarding the final rule requirements due to reconsideration of the regulation, funding cycles for municipalities, and difficulties in procuring the control equipment due to increased demand throughout the industry as the compliance deadline approaches. Approval is conditioned on NSB complying with the applicable equipment standards, catalyst installation and compliance demonstration procedures by October 19, 2014; meeting specified interim compliance deadlines; and complying with the work or management practices for remote stationary RICE by October 19, 2013.

Abstract for [M150006]

Q: Will EPA accept a 2009 performance test as the initial performance test to demonstrate compliance for a stationary reciprocating internal combustion engine (RICE) subject to the NESHAP subpart ZZZZ at and located at Washington State University (WSU) in Pullman, Washington?

A: No. EPA does not approve the use of the 2009 performance test data to serve as the initial performance test for the RICE unit because a prior test can only be used if it is not older than two years pursuant to 40 CFR 63.6612(b)(2). Therefore, an initial test must be conducted within 180 days after the compliance date, by October 30, 2013.

Abstract for [M150007]

Q: Does EPA determine that engines located at the High Frequency Active Auroral Research Program (HAARP) facility near Gakona, Alaska are subject to the National Emission Standards for Hazardous Air Pollutants for Stationary Reciprocating Internal Combustion Engines (RICE) at 40 CFR part 63 subpart ZZZZ? The facility is owned by the Air Force and operated by Marsh Creek, LLC through the Office of Naval Research.

A: Yes. EPA determines that the engines, as described, are RICE and therefore subject to Part 63 subpart ZZZZ. The engines would be required to meet the applicable numerical emission limitations detailed in Table 2d and applicable operating limitations in Table 2b of NESHAP subpart ZZZZ for the type of existing stationary engine located at area sources of HAP, as detailed in the EPA determination letter.

Abstract for [M150008]

Q: Can the Eielson Air Force Base's existing compression ignition, 2-stroke, greater than 500 horsepower, Electromotive Diesel (EMD) engine installed in 1987 at the Base's Central Heat and Power Plant be designated as a black start engine exclusively and therefore subject to the corresponding requirements for that type of engine if the EMD engine is no longer used for any peak shaving?

A: Yes. EPA is responding with guidance to clarify that if the engine subject to 40 CFR part 63 subpart ZZZZ is not being used for peak shaving after the May 3, 2013 compliance date for the engine, and the engine meets the definition of a black start engine, it is subject to the requirements under NESHAP subpart ZZZZ for a black start engine.

Abstract for [M150009]

Q1: Will EPA approve a like for like waiver from the initial and all subsequent particulate matter (PM) tests according to the provisions under 40 CFR 63.7(e)(2)(iv) and 63.7(h) for the Moses Lake Industries (MLI) boiler located in Moses Lake, Washington?

A1: No. EPA determines that the information used to estimate the emissions is not from a boiler unit that is located at the same facility as the unit in question. There is no assurance that the tested unit was operated and maintained in a similar manner as the unit in question.

Q2: In case EPA is unable to grant the waiver, does EPA accept a source test plan and notification that MLI also provided in its submittal dated December 8th, 2011, stating that that they intend to conduct a PM source test on February 13th, 2012?

A2: Yes. EPA accepts the previously submitted test plan and notification in question to meet the general provision source test requirements from section 63.7(b) to notify EPA at least 60 days in advance of a source test.

Abstract for [M150018]

Q1: Can EPA clarify the applicability for the NESHAP for Major Sources: Industrial, Commercial and Institutional Boilers and Process Heaters, 40 CFR part 63, subpart DDDDD; the NESHAP for Flexible Polyurethane Foam Fabrication Operations, 40 CFR part 63, subpart MMMMM; the NESHAP for Reciprocating Internal Combustion !Engines, 40 CFR part 63, subpart ZZZZ; and the NESHAP for Paper and Other Web Coating, 40 CFR part 63, subpart JJJJ for Shawmut's flexible substrate lamination facility located in West Bridgewater, MA if the facility is now an area source?

A1: EPA determines that Shawmut is no longer subject to 40 CFR part 63 subparts JJJJ, MMMMM, and DDDDD. Shawmut is no longer subject to NESHAP subpart JJJJ because the three adhesive laminators (EUI) are permanently decommissioned. Shawmut is not subject to NESHAP subpart MMMMM because the facility ceased to be a major HAP source before becoming subject to any substantive subpart MMMMM requirements. Shawmut is not subject to NESHAP subpart DDDDD for its boiler and two process heaters (EU3) because EPA allows Shawmut to become an area source of HAP before January 2014, the first substantive rule compliance date. Shawmut's existing spark ignition engine is subject to NESHAP subpart ZZZZ as an area source of HAP because Shawmut became an area source of HAP before the first compliance date of October 19, 2013, but subpart ZZZZ does not require area sources of HAP to obtain a Title V operating permit.

Q2: Would Shawmut facility be required to maintain its Title V operating permit because it is no longer a major source?

A2: No. EPA determines that Shawmut is no longer subject to the requirements of Title V operating permits based on applicability of these NESHAP subparts as an area source.

Abstract for [M150019]

Q: Can EPA clarify the annual performance test deadline for Covidien's ethylene oxide sterilization facility located in North Haven, Connecticut?

A: EPA is clarifying that after the initial performance test, subsequent annual testing pursuant 40 CFR 63.363(b)(4)(i) must be conducted within 11 to 13 calendar months after the previous test.

Abstract for [M150020]

Q: Does a dual-fuel steam boiler (Unit 1) at PSEG New Haven Harbor Station in New Haven, Connecticut meet the definition of a limited-use liquid oil-fired electric generating unit in 40 CFR part 63 subpart UUUUU?

A: Yes. Based on the information provided, EPA determines that Unit 1 at PSEG New Haven Harbor Station meets the definition of a limited-use liquid oil-fired electric generating unit in 40 CFR part 63 subpart UUUUU.

Abstract for [M150021]

Q1: Will the addition of heaters to Dragon Products Company's existing finish mill in Thomaston, Maine subject the finish mill to requirements for raw material dryers in NESHAP for Portland Cement Manufacturing Industry at 40 CFR part 63 subpart LLL?

A1: No. EPA determines that the Dragon Products' finish mill is not an affected source under NESHAP subpart LLL because it is processing granulated slag, and is not grinding clinker or blending the slag with clinker.

Q2: Will Dragon Products' proposed finished material dryer be subject to subpart LLL?

A2: No. Based on the information submitted by Dragon Products, EPA determines that the proposed dryer is not an affected source under NESHAP subpart LLL because the raw material dryer would only be used to dry slag a product used in concrete and not used to dry a material for use in the production of Portland cement. This determination is revising a previously issued determination on the applicability of NESHAP subpart to the dryer issued April 8, 2014.

Abstract for [Z150001]

Q: Will the EPA determine that an amendment to Aurora Energy's September 26, 2014 determination is warranted, to provide an additional compliance extension for the performance testing deadline for three area source coal fired boilers (Emission Units (EUs) 4, 5, and 6) under NESHAP subpart JJJJJJ at the Chena Power Plant?

A: Yes. EPA determines that extending the NESHAP subpart JJJJJJ performance test deadline until January 31, 2015, will provide for time to complete the repair and installation and ensure that TG #1 is fully operational and enable a representative test to be conducted on the boilers.

Abstract for [1500052]

Q1: Argos requests clarification of which emissions standards (40 CFR part 63 Subpart LLL—The National Emissions Standards for Hazardous Air Pollutants for the Portland Cement Manufacturing Industry (PC NESHAP); 40 CFR part 60 Subpart Y—New Source Performance Standards for Coal Preparation and Processing Plants (subpart Y); and 40 CFR part 60, subpart DDDD—“Emissions Guidelines and Compliance Times for Commercial and Industrial Solid Waste Incineration (CISWI) Units” (subpart DDDD”) apply to the emissions coming from the PC Coal Mill at the Harleyville Cement Plant located in Harleyville, SC, that are combined with the CISWI kiln emissions, where the CISWI kiln provides heat for drying the coal, before being emitted directly to the atmosphere?

A1: Based on the information provided by Argos, EPA made an analysis of the standards that would apply to the Harleyville PC Coal Mill. EPA determines that the Harleyville PC Coal Mill is subject to the requirements of 40 CFR part 60 subpart Y, specifically the standards for thermal dryers at section 60.252(a), because the thermal dryer is a thermal dryer per section § 60.251(r) (1) and is thus subject to the provisions in § 60.251, § 60.252(a), § 60.255(a), and § 60.256(a). When emissions from the thermal dryer (i.e., the affected facility) at the PC coal mill are combined with emissions from the CISWI kiln subject to emissions limits in subpart DDDD, the emissions exiting from the PC Coal Mill thermal dryer are not exempt from the standards in section § 60.252(a). Neither § 60.251(j) nor § 60.252(c) create an exemption from these requirements. We do not believe that any difference between the definition of kiln under subpart DDDD and the PC NESHAP precludes application of the subpart DDDD standards to the waste-burning kiln emissions that are routed through the PC Coal Mill and emitted out of stack 2. Since the kiln is an existing CISWI unit, the subpart DDDD standards apply to the emissions coming from the waste-burning kiln whether or not those emissions are routed to another process before being emitted out of stack 2.

Q2. Is the Harleyville clinker cooler an affected facility under the PC NESHAP?

A2. Yes. EPA determines that the affected facility, in part, is each clinker cooler at any Portland cement plant according to § 63.1340(b)(2) (“What parts of my plant does this subpart cover?”). Information provided by Argos demonstrates that the clinker cooler meets the definition of clinker cooler at § 63.1341. Therefore, the clinker cooler is an affected facility under the PC NESHAP.

Q3. Which emissions standards (PC NESHAP, subpart Y, and/or subpart DDDD) apply to the emissions coming from the Harleyvill Kiln Coal Mill that are combined with the CISWI kiln emissions, where the CISWI kiln provides heat for drying the coal, before discharging to the atmosphere after co-mingling with the clinker cooler exhaust?

A3. Based on the description provided in Argos' letter, the Harleyville Kiln Coal Mill is a thermal dryer within the meaning of 60.251(r)(1) and thus, for the reasons explained in response to question 1, above, EPA determines it is subject to the applicable requirements of subpart Y in § 60.251, § 60.252(a), § 60.255(a), and § 60.256(a). Regarding PC NESHAP and subpart DDDD, for the reasons discussed in the response to question 1 we maintain that the performance standards for the emissions from CISWI waste burning kilns apply when and where they are emitted to the atmosphere. And, for the reasons stated in response to Question 2, above, we also believe that the clinker cooler is an affected facility under the PC NESHAP and is subject to the emissions standards for clinker coolers, therein. Application of the more stringent emission limits to the combined emissions is necessary to assure compliance with each applicable standard.

Q4: Can the PC NESHAP requirements for in-line coal mills be applied to the PC Coal Mill and the Kiln Coal Mill at Harleyville, independent of the PC NESHAP applicability to the kiln?

A4: No. Based on the construction date of the kiln provided by Argos, EPA determines that the emissions guidelines established under subpart DDDD, implemented through a state or federal plan (as applicable), will apply unless the waste-burning kiln ceases burning solid waste at least 6 months prior to the CISWI part DDDD compliance date. Therefore, the kiln is not subject to the PC NESHAP and instead it is subject to subpart DDDD. Coal mills are not subject to the requirements of the PC NESHAP if the kiln is not a PC NESHAP kiln affected facility in accordance with section § 63.1340(b)(1).

Q5: If the PC NESHAP requirements for the kiln (which includes the coal mills) are not applicable, are the emissions from the Harleyville coal mills only subject to the subpart Y concentration and opacity standards?

A5: No. The kiln emissions are routed through the coal mills so the subpart DDDD requirements will apply to the emissions exiting the coal mills, in addition to the subpart Y requirements.

Q6: Do the requirements of Subpart DDDD apply to the Harleyville CISWI kiln emissions routed through the in-line coal mills (i.e. the PC Coal Mill and the Kiln Coal Mill) associated with the waste burning kiln at the mills that were in place prior to April 2008?

A6: Yes. Any re-routing or commingling of CISWI kiln emissions must not result in uncontrolled emissions directly to the atmosphere. We interpret subpart DDDD (or NSPS CCCC, when applicable) to continue to apply to all of the CISWI waste-burning kiln emissions, even if those emissions are routed through an in-line coal mill or other device prior to exhaust to the atmosphere. Therefore, regardless of the disposition of in-line coal mills as part of the waste burning kiln, the subpart DDDD standards applicable to waste-burning kilns apply to the emissions of the Harleyville kiln when and where they are emitted to the atmosphere.

Q7. Which emissions standards (subpart Y, PC NESHAP and/or subpart DDDD) apply to the emissions from stack 2 at the Roberta Cement Plant located in Calera, Alabama, when the CISWI waste-burning kiln emissions are routed through the coal mill and used to provide heat for drying of the coal before being emitted to the atmosphere?

A7: Based on the information provided by Argos, EPA determines that the Roberta coal mill is a thermal dryer within the meaning of § 60.251(r)(1) and is subject to the provisions in § 60.251, § 60.252(a), § 60.255(a), and § 60.256(a) of subpart Y.

Q8: Which emissions standards apply to the emissions from stack 1 at the Roberta Cement Plant located in Calera, Alabama, wherein the clinker cooler emissions are combined with the kiln emissions and sent to the raw mill to provide heat for drying before being emitted to the atmosphere?

A9: Argos's letter acknowledges that the Roberta in-line kiln/raw mill is a subpart DDDD affected facility. Also, for the same reasons as discussed in the response to Question 2 for Harleyville Cement Plant, the Roberta clinker cooler is an affected facility under the PC NESHAP. Argos must either comply with the most stringent standard applicable to the various emissions streams or establish a mechanism to apportion emissions to the various operations and seek an alternative methodology for determining compliance under section 60.8(b).

Dated: July 10, 2015.
Edward J. Messina,
Director, Monitoring, Assistance, and Media Programs Division, Office of Compliance.

[FR Doc. 2015-20514 Filed 8-18-15; 8:45 am]

BILLING CODE 6560-50-P